DEPARTMENT OF LABOR

Employment and Training Administration

[TA-W-54,561]

Consolidated Screw & Machining, Gaston, OR; Notice of Termination of Investigation

Pursuant to section 221 of the Trade Act of 1974, an investigation was initiated on March 22, 2004 in response to petition filed on behalf of workers at Consolidated Screw & Machining, Gaston, Oregon.

All workers were separated from the subject firm more that one year prior to the date of the petition. Section 223 of the Act specifies that no certification may apply to any worker whose last separation occurred more than one year before the date of the petition. Consequently, further investigation in this case would serve no purpose, and the investigation has been terminated.

Signed in Washington, DC, this 26th day of March, 2004.
Richard Church,
Certifying Officer, Division of Trade Adjustment Assistance.

[FR Doc. 04-7744 Filed 4-5-04; 8:45 am]

BILLING CODE 4510-30-P